DEPARTMENT OF THE INTERIOR

National Park Service

[NPS-WASO-NAGPRA-NPS0022686; PPWOCRADN0-PCU00RP14.R50000]

Notice of Inventory Completion: Ohio History Connection, Columbus, OH

AGENCY: National Park Service, Interior.

ACTION: Notice.

SUMMARY: The Ohio History Connection has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Ohio History Connection. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Ohio History Connection at the address in this notice by March 27, 2017.

ADDRESSES: Bradley Lepper, Ohio History Connection, 800 East 17th Avenue, Columbus, OH 43211, telephone (614) 298-2064, email blepper@ohiohistory.org.

SUPPLEMENTARY INFORMATION: Notice is here given in accordance with the Native American Graves Protection and Repatriation Act (NAGPRA), 25 U.S.C. 3003, of the completion of an inventory of human remains and associated funerary objects under the control of the Ohio History Connection, Columbus, OH. The human remains and associated funerary objects were removed from Newcomers Town and Cemetery, Tuscarawas County, OH.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Ohio History Connection professional staff in consultation with representatives of the Delaware Nation, Oklahoma.

History and Description of the Remains

In July 1934, construction activities relating to the installation of sewer and waterlines along Mulvane Street in Newcomerstown, Tuscarawas County, OH, uncovered human remains. Emerson F. Greenman, Curator of Archaeology for the Ohio History Connection investigated the discovery and collected human remains and associated funerary objects. The human remains consist of a single individual of indeterminate age (A1427/1) along with 37 iron nails (A1427/2) and 15 mostly fragmentary and unmodified peach pits (A1427/9), which are interpreted as funerary objects. This site subsequently was recorded as Newcomer's Town and Cemetery (33TU604).

Newcomers Town, also known as Gekelmukpechunk, was a large Delaware Indian village occupied in the late 1700s. The limits of the site have not been established, but the human remains collected from the Mulvane Street location are reasonably inferred to relate to the Delaware Indian town and therefore these remains are considered to be culturally affiliated to the Delaware Nation, Oklahoma

Determinations Made by the Ohio History Connection

Officials of the Ohio History Connection have determined that:

• Pursuant to 25 U.S.C. 3001(9), the human remains described in this notice represent the physical remains of one individual of Native American ancestry.

• Pursuant to 25 U.S.C. 3001(3)(A), the 52 objects described in this notice are reasonably believed to have been placed with or near the human remains at the time of death or later as part of the death rite or ceremony.

• Pursuant to 25 U.S.C. 3001(2), there is a relationship of shared group identity that can be reasonably traced between the Native American human remains and associated funerary objects and the Delaware Nation, Oklahoma.

Additional Requestors and Disposition

Lineal descendants or representatives of any Indian tribe or Native Hawaiian organization not identified in this notice that wish to request transfer of control of these human remains and associated funerary objects should submit a written request with information in support of the request to Bradley Lepper, Ohio History Connection, 800 East 17th Avenue, Columbus, OH 43211, telephone (614) 298-2064, email blepper@ohiohistory.org, by March 27, 2017. After that date, if no additional requestors have come forward, transfer of control of the human remains and associated funerary objects to the Delaware Nation, Oklahoma, may proceed.

The Ohio History Connection is responsible for notifying the Delaware Nation, Oklahoma, that this notice has been published.

Dated: January 5, 2017.
Melanie O'Brien,
Manager, National NAGPRA Program.

[FR Doc. 2017-03609 Filed 2-23-17; 8:45 am]

BILLING CODE 4312-52-P